DEPARTMENT OF LABOR

EMPLOYMENT AND TRAINING ADMINISTRATION

[TA-W 56,756 and TA-W 56,756A]

Ansonia Copper and Brass, Anosonia, CT, Ansonia Copper and Brass, Waterbury, CT; Notice of Termination of Investigation

Pursuant to Section 221 of the Trade Act of 1974, as amended, an investigation was initiated on March 14, 2005 in response to a petition filed by a state agency representative on behalf of workers at Ansonia Copper and Brass, Ansonia, Connecticut, and Ansonia Copper and Brass, Waterbury, Connecticut.

The petitioner has requested that the petition be withdrawn. Consequently, the investigation has been terminated.

Signed at Washington, DC this 6th day of April 2005.
Richard Church,
Certifying Officer, Division of Trade Adjustment Assistance.

[FR Doc. E5-1934 Filed 4-22-05; 8:45 am]

BILLING CODE 4510-30-P